DEPARTMENT OF COMMERCE

International Trade Administration

[A-588-602]

Carbon Steel Butt-Weld Pipe Fittings from Japan: Rescission of Antidumping Duty Administrative Review

AGENCY: Import Administration, International Trade Administration, Department of Commerce.

SUMMARY: On March 24, 2009, in response to a request from Benex Corporation (Benex), the Department of Commerce (the Department) published a notice of initiation of the administrative review of the antidumping duty order on certain carbon steel butt-weld pipe fittings from Japan for the period February 1, 2008, through January 31, 2009. Because the sole request for review has been withdrawn, we are rescinding this review.

EFFECTIVE DATE: August 10, 2009.

FOR FURTHER INFORMATION: Thomas Schauer, AD/CVD Operations, Office 5, Import Administration, International Trade Administration, U.S. Department of Commerce, 14th Street and Constitution Avenue, NW, Washington, DC 20230; telephone: (202) 482-0410.

SUPPLEMENTARY INFORMATION:

Background

On March 24, 2009, in response to a request from Benex, a Japanese producer of the subject merchandise, the Department published a notice of initiation of administrative review of the antidumping duty order on certain carbon steel butt-weld pipe fittings from Japan. See Initiation of Antidumping and Countervailing Duty Administrative Reviews and Requests for Revocation in Part, 74 FR 12310 (March 24, 2009). On June 29, 2009, Benex withdrew its request for an administrative review. See letter from Benex dated June 29, 2009.

Rescission of Review

In accordance with 19 CFR 351.213(d)(1), the Department will rescind an administrative review “if a party that requested the review withdraws the request within 90 days of the date of publication of notice of initiation of the requested review. The Secretary may extend this time limit if the Secretary decides that it is reasonable to do so.” Although we did not receive Benex's withdrawal letter within the 90-day time limit, we determine that it is reasonable to accept this letter of withdrawal because we have not expended significant resources in the conduct of this review and because we received no other requests for the review of Benex. Accordingly, the Department is rescinding this review pursuant to 19 CFR 351.213(d)(1). The Department intends to issue appropriate assessment instructions to U.S. Customs and Border Protection 15 days after the date of publication of this notice.

Notification to Importers

This notice serves as a reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notification Regarding Administrative Protective Orders

This notice also serves as a reminder to parties subject to administrative protective order (APO) of their responsibility concerning the disposition of proprietary information disclosed under APO in accordance with 19 CFR 351.305(a)(3). Timely notification of the destruction of APO materials or conversion to judicial protective order is hereby requested. Failure to comply with the regulations and the terms of an APO is a sanctionable violation.

We are issuing and publishing this rescission in accordance with section 777(i)(1) of the Tariff Act of 1930, as amended, and 19 CFR 351.213(d)(4).

Dated: August 3, 2009.
John M. Andersen,
Acting Deputy Assistant Secretary for Antidumping and Countervailing Duty Operations.

[FR Doc. E9-19097 Filed 8-7-09; 8:45 am]

BILLING CODE 3510-DS-S